DEPARTMENT OF JUSTICE

Notice of Lodging of Proposed Consent Decree Under the Comprehensive Environmental Response, Compensation and Liabiilty Act (“CERCLA”)

Notice is hereby given that on June 18, 2012, a proposed Consent Decree in United States of America v. Government of the U.S. Virgin Islands, Civil Action No. 09-122 was lodged with the District Court of the Virgin Islands, Division of St. Thomas and St. John.

In this action, the United States sought recovery of response costs pursuant to Section 107(a) of CERCLA, for costs incurred related to the Tutu Wellfield Superfund Site in St. Thomas, U.S. Virgin Islands. The consent decree requires the Government of the U.S. Virgin Islands to take over operation and maintenance of two existing groundwater pump-and-treat systems at the Tutu Wellfield Superfund Site one year prior to the date that it otherwise would be required to take over such operations.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States of America v. Government of the U.S. Virgin Islands, D.J. Ref. 90-11-3-09838.

During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $22.00 (25 cents per page reproduction cost) payable to the U.S. Treasury or, if requesting by email or fax, forward a check in that amount to the Consent Decree Library at the address given above.

Ronald G. Gluck,
Assistant Chief, Environmental Enforcement Section, Environment and Natural Resources Division.

[FR Doc. 2012-15876 Filed 6-27-12; 8:45 am]

BILLING CODE 4410-15-P